DEPARTMENT OF ENERGY

Federal Energy Regulatory Commission

Combined Notice of Filings #1

April 30, 2008.

Take notice that the Commission has received the following Natural Gas Pipeline Rate and Refund Report filings:

Docket Numbers: RP96-389-089.

Applicants: Columbia Gulf Transmission Company.

Description: Columbia Gulf Transmission Company submits negotiated rate agreement re FTS-1 Service Agreement 01116 between Columbia Gulf Transmission Company and National Fuel Marketing, LLC dated 04/24/2008.

Filed Date: 04/28/2008.

Accession Number: 20080429-0255.

Comment Date: 5 p.m. Eastern Time on Monday, May 12, 2008.

Docket Numbers: RP00-305-036.

Applicants: CenterPoint Energy-Mississippi River Transmission.

Description: CenterPoint Energy-Mississippi River Transmission Corporation submits an amended negotiated rate agreement between MRT and CenterPoint Energy Services, Inc.

Filed Date: 04/28/2008.

Accession Number: 20080429-0253.

Comment Date: 5 p.m. Eastern Time on Monday, May 12, 2008.

Docket Numbers: RP00-305-037.

Applicants: CenterPoint Energy-Mississippi River Transmission.

Description: CenterPoint Energy-Mississippi River Transmission Corporation submits an amended negotiated rate agreement between MRT and Laclede Energy Resources, Inc.

Filed Date: 04/28/2008.

Accession Number: 20080429-0254.

Comment Date: 5 p.m. Eastern Time on Monday, May 12, 2008.

Docket Numbers: RP02-361-070.

Applicants: Gulf Stream Natural Gas System, LLC.

Description: Gulfstream Natural Gas System LLC submits Original Sheet 8.021, to FERC Gas Tariff, Original Volume 1, reflecting an effective date of May 1, 2008.

Filed Date: 04/28/2008.

Accession Number: 20080429-0250.

Comment Date: 5 p.m. Eastern Time on Monday, May 12, 2008.

Docket Numbers: RP08-221-001.

Applicants: Crossroads Pipeline Company.

Description: Crossroads Pipeline Company submits response to 3/27/08 letter re Crossroads to provide additional information by April 28, 2008.

Filed Date: 04/28/2008.

Accession Number: 20080429-0251.

Comment Date: 5 p.m. Eastern Time on Monday, May 12, 2008.

Docket Numbers: RP08-223-001.

Applicants: Equitrans, L.P.

Description: Equitrans, LP submits responses to Data Requests issued by the Commission's Letter Order of 3/27/08.

Filed Date: 04/28/2008.

Accession Number: 20080430-0001.

Comment Date: 5 p.m. Eastern Time on Monday, May 12, 2008.

Docket Numbers: RP08-247-001.

Applicants: Ozark Gas Transmission, L.L.C.

Description: Ozark Gas Transmission, LLC submits Substitute Seventh Revised Sheet 13, Substitute Original Sheet 14A and 39A to FERC Gas Tariff, Original Volume 1, to be effective 4/1/08.

Filed Date: 04/28/2008.

Accession Number: 20080429-0257.

Comment Date: 5 p.m. Eastern Time on Monday, May 12, 2008.

Docket Numbers: RP08-328-000.

Applicants: Columbia Gas Transmission Corporation.

Description: Columbia Gulf Transmission Company submits First Revised Sheet 500C to its FERC Gas Tariff, Second Revised Volume 1 effective date of April 4, 2008.

Filed Date: 04/28/2008.

Accession Number: 20080429-0256.

Comment Date: 5 p.m. Eastern Time on Monday, May 12, 2008.

Docket Numbers: RP08-329-000.

Applicants: Discovery Gas Transmission LLC.

Description: Discovery Gas Transmission LLC submits Section 27 Revenue Credit Report for 2007.

Filed Date: 04/29/2008.

Accession Number: 20080430-5039.

Comment Date: 5 p.m. Eastern Time on Monday, May 12, 2008.

Docket Numbers: RP08-330-000.

Applicants: Discovery Gas Transmission LLC.

Description: Discovery Gas Transmission LLC submits its Imbalance Cash-out Activity Report for the year ended December 31, 2007 pursuant to the Terms and Conditions in Discovery's FERC Gas Tariff.

Filed Date: 04/29/2008.

Accession Number: 20080430-5040.

Comment Date: 5 p.m. Eastern Time on Monday, May 12, 2008.

Docket Numbers: RP08-333-000.

Applicants: Black Marlin Pipeline Company.

Description: Annual Cash Out Report of Black Marlin Pipeline Company.

Filed Date: 04/29/2008.

Accession Number: 20080430-5041.

Comment Date: 5 p.m. Eastern Time on Monday, May 12, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-9965 Filed 5-5-08; 8:45 am]

BILLING CODE 6717-01-P